DEPARTMENT OF JUSTICE

[OMB Number 1103-0102]

Agency Information Collection Activities; Proposed eCollection, eComments Requested; COPS Progress Report

AGENCY: Community Oriented Policing Services, Department of Justice.

ACTION: 30-Day notice.

SUMMARY: The Department of Justice (DOJ) Office of Community Oriented Policing Services (COPS) will be submitting the following information collection request to the Office of Management and Budget (OMB) for review and approval in accordance with the Paperwork Reduction Act of 1995.

DATES: The purpose of this notice is to allow for an additional 30 days for public comment September 7, 2021.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Revision of a currently approved collection.

(2) Title of the Form/Collection: COPS Progress Report.

(3) Agency form number: 1103-0102 U.S. Department of Justice Office of Community Oriented Policing Services.

(4) Affected public who will be asked or required to respond, as well as a brief abstract:

Primary: Law Enforcement Agencies.

(5) An estimate of the total number of respondents and the amount of time estimated for an average respondent to respond/reply:

There will be approximately 1,424 awardees submitting a COPS Progress Report on a semi-annually basis, or 4,042 responses annually. The average estimated time to complete a progress report is 35 minutes per awardee submission.

(6) An estimate of the total public burden (in hours) associated with the collection:

0.4167 hours per respondent × 1424 respondents × 2 (semi-annually response) = 2,848 annual hours.

Total Annual Respondent Burden: 2,848 hours

If additional information is required contact: Melody D. Braswell, Department Clearance Officer, United States Department of Justice, Justice Management Division, Policy and Planning Staff, Two Constitution Square, 145 N Street NE, Room 3E.405A, Washington, DC 20530.

Dated: August 2, 2021.
Melody D. Braswell,
Department Clearance Officer for PRA, U.S. Department of Justice.

[FR Doc. 2021-16731 Filed 8-4-21; 8:45 am]

BILLING CODE 4410-AT-P